DEPARTMENT OF ENERGY

Federal Energy Regulatory Commission

Combined Notice of Filings #1

Take notice that the Commission received the following electric corporate filings:

Docket Numbers: EC22-64-000.

Applicants: Sentinel Energy Center, LLC, PG Coachella Power Holdings, Inc., Meridian-CAI Aggregator I, LLC.

Description: Application for Authorization Under Section 203 of the Federal Power Act of Sentinel Energy Center, LLC.

Filed Date: 5/9/22.

Accession Number: 20220509-5184.

Comment Date: 5 p.m. ET 5/30/22.

Take notice that the Commission received the following Complaints and Compliance filings in EL Dockets:

Docket Numbers: EL22-56-000.

Applicants: Iowa Coalition for Affordable Transmission v. ITC Midwest, LLC.

Description: Complaint of Iowa Coalition for Affordable Transmission.

Filed Date: 5/10/22.

Accession Number: 20220510-5032.

Comment Date: 5 p.m. ET 5/31/22.

Take notice that the Commission received the following electric rate filings:

Docket Numbers: ER20-2004-002.

Applicants: Public Service Electric and Gas Company, PJM Interconnection, L.L.C.

Description: Compliance filing: Public Service Electric and Gas Company submits tariff filing per 35: PSE&G Response to 2nd Deficiency Letter in ER20-2004 to be effective N/A.

Filed Date: 5/10/22.

Accession Number: 20220510-5168.

Comment Date: 5 p.m. ET 5/31/22.

Docket Numbers: ER21-2164-002.

Applicants: MATL LLP.

Description: Compliance filing: Compliance FIling ER2-2164 (676-H) to be effective 8/21/2021.

Filed Date: 5/10/22.

Accession Number: 20220510-5117.

Comment Date: 5 p.m. ET 5/31/22.

Docket Numbers: ER22-914-001.

Applicants: Southwest Power Pool, Inc.

Description: Tariff Amendment: Deficiency Response—Revisions to Attachment AE to Add Uncertainty Reserve to be effective 12/31/9998.

Filed Date: 5/9/22.

Accession Number: 20220509-5127.

Comment Date: 5 p.m. ET 5/30/22.

Docket Numbers: ER22-1370-000.

Applicants: Sunlight Storage, LLC.

Description: Supplement to March 17, 2022 Sunlight Storage, LLC tariff filing.

Filed Date: 5/9/22.

Accession Number: 20220509-5187.

Comment Date: 5 p.m. ET 5/19/22.

Docket Numbers: ER22-1807-000.

Applicants: Duke Energy Progress, LLC.

Description: § 205(d) Rate Filing: DEP-Edgecombe Unexecuted ASOA SA No. 388 to be effective 5/1/2022.

Filed Date: 5/6/22.

Accession Number: 20220506-5217.

Comment Date: 5 p.m. ET 5/27/22.

Docket Numbers: ER22-1841-000.

Applicants: Golden Spread Electric Cooperative, Inc.

Description: Compliance filing: 676-J Order First Compliance to be effective 12/31/9998.

Filed Date: 5/10/22.

Accession Number: 20220510-5033.

Comment Date: 5 p.m. ET 5/31/22.

Docket Numbers: ER22-1842-000.

Applicants: PJM Interconnection, L.L.C.

Description: § 205(d) Rate Filing: Original NSA, Service Agreement No. 6462; Queue No. AC1-161 to be effective 4/11/2022.

Filed Date: 5/10/22.

Accession Number: 20220510-5036.

Comment Date: 5 p.m. ET 5/31/22.

Docket Numbers: ER22-1843-000.

Applicants: Joliet Battery Storage LLC.

Description: Tariff Amendment: Notice of Cancellation of Market-Based Rate Tariff and Request for Waivers to be effective 5/11/2022.

Filed Date: 5/10/22.

Accession Number: 20220510-5050.

Comment Date: 5 p.m. ET 5/31/22.

Docket Numbers: ER22-1844-000.

Applicants: West Chicago Battery Storage LLC.

Description: Tariff Amendment: Notice of Cancellation of Market-Based Rate Tariff and Request for Waivers to be effective 5/11/2022.

Filed Date: 5/10/22.

Accession Number: 20220510-5051.

Comment Date: 5 p.m. ET 5/31/22.

Docket Numbers: ER22-1845-000.

Applicants: PJM Interconnection, L.L.C.

Description: § 205(d) Rate Filing: Original ISA, SA No. 6438; Queue No. AE1-229 to be effective 4/11/2022.

Filed Date: 5/10/22.

Accession Number: 20220510-5086.

Comment Date: 5 p.m. ET 5/31/22.

Docket Numbers: ER22-1846-000.

Applicants: Southwest Power Pool, Inc.

Description: § 205(d) Rate Filing: Revisions to Add the Waiver of Base Plan Allocation Methodology to be effective 8/1/2022.

Filed Date: 5/10/22.

Accession Number: 20220510-5125.

Comment Date: 5 p.m. ET 5/31/22.

Docket Numbers: ER22-1847-000.

Applicants: Northern States Power Company, a Minnesota corporation.

Description: § 205(d) Rate Filing: 2022-05-10 NSPM-SCPU-FSA-708 0.0.0 to be effective 5/11/2022.

Filed Date: 5/10/22.

Accession Number: 20220510-5127.

Comment Date: 5 p.m. ET 5/31/22.

Docket Numbers: ER22-1848-000.

Applicants: Southwest Power Pool, Inc.

Description: § 205(d) Rate Filing: 3703R1 Oxbow Solar GIA to be effective 4/18/2022.

Filed Date: 5/10/22.

Accession Number: 20220510-5135.

Comment Date: 5 p.m. ET 5/31/22.

Docket Numbers: ER22-1849-000.

Applicants: Southwest Power Pool, Inc.

Description: § 205(d) Rate Filing: 3949 Platteview Solar Interim GIA to be effective 4/26/2022.

Filed Date: 5/10/22.

Accession Number: 20220510-5139.

Comment Date: 5 p.m. ET 5/31/22.

Docket Numbers: ER22-1850-000.

Applicants: ISO New England Inc., The United Illuminating Company.

Description: Compliance filing: ISO New England Inc. submits tariff filing per 35: The United Illuminating Company, Revisions to Comply with Order No. 864 to be effective 1/27/2020.

Filed Date: 5/10/22.

Accession Number: 20220510-5157.

Comment Date: 5 p.m. ET 5/31/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2022.
Debbie-Anne A. Reese,
Deputy Secretary.

[FR Doc. 2022-10455 Filed 5-13-22; 8:45 am]

BILLING CODE 6717-01-P